NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995 on the Survey of Graduate Students and Postdoctorates in Science and Engineering. NSF may not conduct or sponsor a collection of information unless the collection of information displays a currently valid OMB control number and the agency informs potential persons who are to respond to the collection of information that such persons are not required to respond to the collection of information unless it displays a currently valid OMB control number.

Comments: Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

DATES: Comments regarding these information collections are best assured of having their full effect if received October 19, 2017.

ADDRESSES: Comments should be addressed to: Office of Information and Regulatory Affairs of OMB, Attention: Desk Officer for National Science Foundation, 725 17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

FOR FURTHER INFORMATION CONTACT: Suzanne H. Plimpton at splimpto@nsf.gov. Copies of the submission may be obtained by calling 703-292-7556.

SUPPLEMENTARY INFORMATION: This is the second notice for public comment on plans to obtain OMB clearance for the Survey of Graduate Students and Postdoctorates in Science and Engineering; the first notice was published in the Federal Register at 82 FR 20921, and no comments were received. NSF is forwarding the proposed renewal submission to the Office of Management and Budget (OMB) for clearance simultaneously with the publication of this second notice. The full submission may be found at: http://www.reginfo.gov/public/do/PRAMain.

Title: Survey of Graduate Students and Postdoctorates in Science and Engineering

OMB Approval Number: 3145-0062.

Summary of Collection: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

The Survey of Graduate Students and Postdoctorates in Science and Engineering (GSS), sponsored by NCSES within NSF and the National Institutes of Health, is designed to comply with legislative mandates by providing information on the characteristics of graduate students and postdoctorates appointees (postdocs) in science, engineering and health (SEH) fields. The GSS, which originated in 1966 and has been conducted annually since 1972, is a census of all departments in SEH fields within academic institutions with graduate programs in the United States.

The GSS is the only national survey that collects information on the characteristics of graduate enrollment for specific SEH disciplines at the department level. It collects information on ethnicity and race, citizenship, sex, sources of support, mechanisms of support, and enrollment status for graduate students; information on postdocs by ethnicity and race, citizenship, sex, sources of support, mechanism of support, doctorate type and degree origin; and information on other doctorate-holding non-faculty researchers by gender and doctorate type. To improve coverage of postdocs, the GSS also periodically collects information on the ethnicity and race, sex, citizenship, source of support, field of research for the postdocs employed in Federally Funded Research and Development Centers (FFRDCs). The data are solicited under the authority of the National Science Foundation Act of 1950, as amended, and the Privacy Act of 1974. All information will be used for statistical purposes only. Participation in the survey is voluntary.

Starting in 2017, the GSS will be redesigned to improve the data utility, data reporting, and to reduce response burden. The redesign changes to be implemented include: (1) Separate reporting of enrollment and financial support data for master's and doctoral students; (2) reporting of data based on the Classification of Instructional Programs (CIP) codes for the departments; and (3) expanding the institutional use of file transfers for data submission, instead of manual entry of data in the GSS Web survey instrument. The redesigned data collection will not ask new questions but the primary method used to report the graduate student enrollment and financial support data will change for the institutions.

The initial GSS data request will be sent to the designated respondent (School Coordinator) at each academic institution in the fall. The School Coordinator may upload a file with requested data on the GSS Web site, which will automatically aggregate the data and populate the cells of the Web survey instrument for each eligible unit (departments, programs, research centers and health care facilities).

The School Coordinator will be also able to upload partial data (e.g., student enrollment information) and delegate the provision of other data (e.g., financial support information) to appropriate unit respondents at their institution. The GSS institutions which do not want to upload data files will be able to complete the survey through manual entry of data in the Web survey instrument as in the past.

Use of the Information: The GSS data are routinely provided to Congress and other Federal agencies. The GSS institutions are major users of the GSS data, along with professional societies such as the American Association of Universities, Association of American Medical Colleges, and the Carnegie Foundation. Graduate enrollment and postdoc data are often used in reports by the national media. The GSS (along with other academic sector surveys from both NCSES and the National Center of Education Statistics) is one of the inputs into the NCSES data system, which provides access to science and engineering (S&E) statistical data from U.S. academic institutions. Among other uses, this online data system is used by NSF to review changing enrollment levels to assess the effects of NSF initiatives, to track graduate student support patterns and to analyze participation in S&E fields by targeted groups for all disciplines or for selected disciplines and for selected groups of institutions.

NSF will publish statistics from the survey in several reports, including the National Science Board's Science and Engineering Indicators and NCSES' Women, Minorities and Persons with Disabilities in Science and Engineering. These reports will be made available electronically on the NSF Web site. A public use file is also made available.

Expected Respondents: The GSS is a census of all eligible academic institutions in the U.S. with graduate programs in SEH fields. The estimated total number of respondents surveyed in 2017 survey is 15,972 departments or programs in about 826 schools within 700 SEH graduate degree-granting institutions. The response rate is calculated on the number of departments that respond to the survey. NCSES expects the response rate to remain around 99 percent.

Estimate of Burden: The amount of time it takes to complete the GSS data varies dramatically across institutions, and depends to a large degree on the number of reporting units, and the extent to which the school's records are centrally stored and computerized. It also depends on the number of institutions using the manual data entry or the file upload option to provide the GSS data. Based on the Pilot data collection conducted during the 2016 GSS that was designed to test the feasibility of the GSS redesign, a large majority of the institutions are expected to use the file upload options to submit data.

Burden estimate calculations are based on the survey completion times reported by the 2016 Pilot GSS respondents, as compared to their completion times reported in the 2015 GSS. Because completion time differs by reporting institution type, burden is estimated separately based on three types of institutions and the proportion they constitute in the GSS frame—institutions enrolling only master's students, institutions enrolling both master's and doctoral students with 15 or fewer reporting units, and institutions enrolling both master's and doctoral students with more than 15 reporting units (see Table 1).

Table 1—Expected Composition of 2017 GSS Frame
Institution type | Number of schools | Percent
Master's Only | 339 | 41.0
Master's/Doctorate: 15 or fewer units | 205 | 24.8
Master's/Doctorate: More than 15 units | 282 | 34.2
Total | 826 | 100.0

Burden estimates for each reporting institution type are shown in Table 2.

Table 2—Burden Estimates for the 2017 GSS
School type | Respondents (number of schools) | Average burden (hours) | Total burden (hours)
Master's Only | 339 | 5.9 | 2,000
Master's/Doctorate: 15 or fewer units | 205 | 17.1 | 3,506
Master's/Doctorate: More than 15 units | 282 | 86.6 | 24,421
FFRDCs | 43 | 3.7 | 159
Estimated total | 869 |  | 30,086

The number of units in the subsequent survey cycle will include the institutions in the previous year plus an approximate 1 percent increase in institutions. The FFRDC postdoc data collection will take place in 2017 and 2019, and the estimated burden for those years will increase by 159 hours from 43 FFRDCs (based on 100 percent response rate in 2015 with the average burden of 3.7 hours per FFRDC) to a total of 30,086 and 30,738 hours, respectively (see Table 3). Estimates of the 2018 GSS burden are 30,262 hours. An additional 800 hours across three years are requested to conduct methodological testing.

Table 3—Total Burden Estimates for 2017-19 GSS
Survey cycle | Respondents (number of schools) | Total burden (hours)
2017 GSS | 869 | 30,086
GSS Institutions | 826 | 29,927
FFRDCs | 43 | 159
2018 GSS | 836 | 30,262
2019 GSS | 888 | 30,738
GSS Institutions | 845 | 30,579
FFRDCs | 43 | 159
Future methodological testing (across all 3 years) |  | 800
Total estimated burden | 2,593 | 91,886
Estimated average annual burden | 864 | 30,629

The total estimated respondent burden of the GSS, including 800 hours for the methodological studies, will be 91,886 hours over the 3-survey clearance period.

Dated: September 14, 2017.
Suzanne H. Plimpton,
Reports Clearance Officer, National Science Foundation.

[FR Doc. 2017-19889 Filed 9-18-17; 8:45 am]

BILLING CODE 7555-01-P